DEPARTMENT OF ENERGY

Federal Energy Regulatory Commission

[Docket No. RP99-227-005]

High Island Offshore System, LLC; Notice of Compliance Filing

January 12, 2000.

Take notice that on January 6, 2000, High Island Offshore System, L.L.C. (HIOS), tendered for filing as part of its FERC Gas Tariff, Third Revised Volume No. 1, the following tariff sheets, with an effective date of April 6, 1999:

First Revised Sheet No. 26

First Revised Sheet No. 201

HIOS states that such tariff sheets are being submitted to comply with the Office of Pipeline Regulation's December 14, 1999, Letter Order in this proceeding.

Any person desiring to protect this filing should file a protest with the Federal Energy Regulatory Commission, 888 First Street NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-1184 Filed 1-18-00; 8:45 am]

BILLING CODE 6717-01-M